DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 19, 2005.

Interested persons are invited to submit written comments regarding the subject matter of the investigations to the Director, Division of Trade Adjustment Assistance, at the address shown below, not later than September 19, 2005.

The petitions filed in this case are available for inspection at the Office of the Director, Division of Trade Adjustment Assistance, Employment and Training Administration, U.S. Department of Labor, Room C-5311, 200 Constitution Avenue, NW., Washington, DC 20210.

Signed at Washington, DC, this 30th day of August, 2005.
Terrance Clark,
Acting Director, Division of Trade Adjustment Assistance.

Appendix
[Petitions instituted between 08/15/2005 and 08/19/2005]
TA-W | Subject firm (petitioners) | Location | Date of institution | Date of petition
57,740 | Baron Drawn Steel (Comp) | Toledo, OH | 08/15/2005 | 08/12/2005
57,741 | Globetrans Network, Inc. (NPS) | Staten Island, NY | 08/15/2005 | 08/12/2005
57,742 | Agilent Technologies, Inc. (Comp) | Santa Rosa, CA | 08/15/2005 | 08/12/2005
57,743 | Sulzer-Sturm Rapid Response Center (Comp) | Barboursville, WV | 08/15/2005 | 08/10/2005
57,744 | Nissan Motor Manufacturing (Wkrs) | Smyrna, TN | 08/15/2005 | 07/08/2005
57,745 | USR Optonix (State) | Hackettstown, NJ | 08/15/2005 | 08/15/2005
57,746 | Joan Fabrics (Comp) | Spindale, NC | 08/16/2005 | 08/05/2005
57,747 | Lubizol Corporation (The) (Wkrs) | Mountaintop, PA | 08/16/2005 | 08/12/2005
57,748 | SportRack Port Accessories (State) | Huron, MI | 08/16/2005 | 08/15/2005
57,749 | Slater Companies (The) (Comp) | Pawtucket, RI | 08/16/2005 | 08/15/2005
57,750 | Pennsylvania House (Comp) | Lewisburg, PA | 08/16/2005 | 08/08/2005
57,751 | Pulaski Rubber Company (Comp) | Pulaski, TN | 08/16/2005 | 08/15/2005
57,752 | Nestle USA (Comp) | St. Louis, MO | 08/16/2005 | 08/12/2005
57,753 | Transcanada GTN System (Wkrs) | Rosalia, WA | 08/16/2005 | 08/11/2005
57,754 | Delphi Corporation (Comp) | Kettering, OH | 08/16/2005 | 08/15/2005
57,755 | Johnston Textiles, Inc. (Comp) | Phenix City, AL | 08/16/2005 | 08/13/2005
57,756 | FiberMark (State) | Milford, NJ | 08/16/2005 | 08/16/2005
57,757 | Meryl Diamond Ltd. (Comp) | New York, NY | 08/16/2005 | 08/16/2005
57,758 | Optek Technology (Comp) | Carrollton, TX | 08/17/2005 | 08/16/2005
57,759 | Unifi, Inc. (Comp) | Mayodan, NC | 08/17/2005 | 08/16/2005
57,760 | Clarion Technologies (Wkrs) | South Haven, MI | 08/17/2005 | 08/11/2005
57,761 | Stimson Lumber Company (UBC) | Bonner, MT | 08/17/2005 | 08/16/2005
57,762 | Crotty (State) | Celina, TN | 08/17/2005 | 08/13/2005
57,763 | Coats North America (Wkrs) | Greer, SC | 08/17/2005 | 08/08/2005
57,764 | Merrimac Paper Co., Inc. (Wkrs) | Lawrence, MA | 08/18/2005 | 08/18/2005
57,765 | Metz Tool and Die (Comp) | Rockford, IL | 08/18/2005 | 08/08/2005
57,766 | Southern Graphic Systems (Comp) | Louisville, KY | 08/18/2005 | 08/17/2005
57,767 | General Electric Consumer Components (State) | Conover, NC | 08/18/2005 | 08/17/2005
57,768 | Younger Optics (State) | Torrance, CA | 08/18/2005 | 08/12/2005
57,769 | Quality Footwear (Comp) | Fort Payne, AL | 08/18/2005 | 08/16/2005
57,770 | Elementis Pigments Corporation (Wkrs) | East St. Louis, IL | 08/18/2005 | 08/11/2005
57,771 | The Prince Mfg. Co. (Comp) | Bowmanstown, PA | 08/18/2005 | 08/11/2005
57,772 | Bob's Candies, Inc. (Wkrs) | Albany, GA | 08/18/2005 | 08/11/2005
57,773 | OWT Industries, Inc. (Comp) | Pinkins, SC | 08/18/2005 | 08/17/2005
57,774 | Preco, Inc. (Wkrs) | Boise, ID | 08/18/2005 | 08/08/2005
57,775 | Pleasant Hill Veneer Corp (Wkrs) | Pleasant Hill, MO | 08/18/2005 | 07/27/2005
57,776 | Brockway Pressed Metals, Inc. (USWA) | Brockway, PA | 08/18/2005 | 08/17/2005
57,777 | Gemtron Corporation (Wkrs) | Sweetwater, TN | 08/18/2005 | 08/16/2005
57,778 | Kemtah Group, Inc (State) | Corvllis, OR | 08/18/2005 | 08/17/2005
57,779 | Sonoco, Inc. (Comp) | Canandaigua, NY | 08/18/2005 | 08/17/2005
57,780 | Cintas Rockcastle Mt. Mfg. (Comp) | Vernon, KY | 08/18/2005 | 08/05/2005
57,781 | Nu-Gro Technologies, Inc. NY (NPC) | Gloversville, | 08/18/2005 | 08/15/2005
57,782 | McLaughlin Co. (State) | Petoskey, MI | 08/18/2005 | 08/08/2005
57,783 | Brick Lens Restaurant (State) | Greenfield, MA | 08/18/2005 | 08/05/2005
57,784 | Greenfield Inn (NPS) | Greenfield, MA | 08/18/2005 | 08/05/2005
57,785 | Greenfield Montague Transit Area (NPS) | Greenfield, MA | 08/18/2005 | 08/05/2005
57,786 | Laufen Interntional, Inc. (Comp) | Tulsa, OK | 08/18/2005 | 07/29/2005
57,787 | Cross Stone Product, LLC (Comp) | Bristol, VA | 08/18/2005 | 07/25/2005
57,788 | AmbiTech, Inc. (Comp) | Chatsworth, CA | 08/18/2005 | 08/03/2005
57,789 | Amveco Magnetics, Inc. (Comp) | Houston, TX | 08/18/2005 | 08/10/2005
57,790 | Sail (Wkrs) | Piscataway, NJ | 08/18/2005 | 08/09/2005
57,791 | Accellent (Comp) | Corry, PA | 08/18/2005 | 08/05/2005
57,792 | Kwan Sewing (Comp) | San Francisco, CA | 08/19/2005 | 07/25/2005
57,793 | GE Consumer Finance (Wkrs) | Schaumburg, IL | 08/19/2005 | 08/02/2005
57,794 | Cognis Corporation (USWA) | Cincinnati, OH | 08/19/2005 | 08/18/2005
57,795 | 3 M (State) | Fairmont, MN | 08/19/2005 | 08/18/2005
57,796 | TCS Manufacturing, Inc. (Comp) | Jamestown, NY | 08/19/2005 | 08/12/2005
57,797 | Southwire (State) | Long Beach, CA | 08/19/2005 | 08/11/2005
57,798 | Power-One (Wkrs) | Carlsbad, CA | 08/19/2005 | 08/10/2005
57,799 | Demag Cranes and Components (IBT) | Cleveland, OH | 08/19/2005 | 08/08/2005
57,800 | Nuvo Network Management Corp. (Comp) | Pennsauken, NJ | 08/19/2005 | 08/09/2005
57,801 | Johnson Controls, Inc. (Comp) | Holland, MI | 08/19/2005 | 08/11/2005
57,802 | Sara Lee Corporation (Wkrs) | Winston Salem, NC | 08/19/2005 | 07/29/2005
57,803 | Viasystems Consumer Group (Comp) | Mishawaka, IN | 08/19/2005 | 09/18/2005
57,804 | Kellwood Company (Comp) | Summit, MS | 08/19/2005 | 08/17/2005
57,805 | Edward Fields, Inc. (Wkrs) | College Point, NY | 08/19/2005 | 07/28/2005
57,806 | Harper Pet Products, Inc. (Comp) | Bedford Park, IL | 08/19/2005 | 08/17/2005

[FR Doc. E5-4884 Filed 9-7-05; 8:45 am]

BILLING CODE 4510-30-P